DEPARTMENT OF DEFENSE

Office of the Secretary

[Transmittal No. 23-39]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-39, Policy Justification, and Sensitivity of Technology.

Dated: September 24, 2024.
Aaron T. Siegel,
Alternate OSD Federal Register Liaison Officer, Department of Defense.

BILLING CODE 6001-FR-P

BILLING CODE 6001-FR-C

Transmittal No. 23-39

Notice of Proposed Issuance of Letter of Offer Pursuant to Section 36(b)(1) of the Arms Export Control Act, as amended

(i) Prospective Purchaser: Government of Slovakia

(ii) Total Estimated Value:

Major Defense Equipment * | $100 million
Other | $150 million
TOTAL | $250 million

Funding Source: Foreign Military Financing

(iii) Description and Quantity or Quantities of Articles or Services under Consideration for Purchase:

Major Defense Equipment (MDE):

One Hundred Ninety-Two (192) M1278A1/A2 Heavy Gun Carriers Joint Light Tactical Vehicles (JLTVs)

Non-MDE:

Also included are M153 Common Remote Weapons Stations (CROWS) with Display and Control Panels (DCP); M2 Quick Change Barrels (QCBs) .50 caliber machine guns; MK19 40mm grenade launchers; M2A1 machine guns; M4A1 Joint Chemical Agent Detectors; AN/VAS-5B(V)2 Driver's Vision Enhancers (DVE); JLTV kits; special tools to support the JLTV; JLTV spare parts; M205 gun mounts; basic issue items for CROWS; CROWS DCP retrofit kits; AN/VRC-104 radio kits; 16 port network switch kits; Silent Watch energy storage kits; DVE installation kits; M4A1 detector kits; M1114 turret rings and hatches; Maintenance Support Devices (MSD) with wireless at-platform test sets; Driver Vision Enhancer (DVE) sensor modules; display control modules; bracket assembly; electronics components assembly; CROWS appended trainers; CROWS diagnostic kits; CROWS maintenance tool sets; M2 Small Arms Tool Kits; MK19 Small Arms Tool Kits; M2 spare parts; MK93 weapon mounts; Toughbook laptops with interactive electronic technical manuals (IETM) and cables; JLTV contractor spare parts support; CROW Systems spare parts support; Maintenance Support Items (MSI) in support of MK19; MK19 Mod III spare parts support; CROWS spare parts; CROWS Basic Issue Items (BII) boresight kit components; Total Package Fielding; Field Service Representative support; U.S. government technical assistance; training; technical publications/manuals; and other related elements of logistics and program support.

(iv) Military Department: Army (LO-B-UDI)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: May 9, 2023

*As defined in Section 47(6) of the Arms Export Control Act.

POLICY JUSTIFICATION

Slovakia—M1278A1/A2 Heavy Gun Carriers Joint Light Tactical Vehicles (JLTVs)

The Government of Slovakia has requested to buy one hundred ninety-two (192) M1278A1/A2 Heavy Gun Carriers Joint Light Tactical Vehicles (JLTVs) as well as M153 Common Remote Weapons Stations (CROWS) with Display and Control Panels (DCP); M2 Quick Change Barrels (QCB) .50 caliber machine guns; MK19 40mm grenade launchers; M2A1 machine guns; M4A1 Joint Chemical Agent Detectors; AN/VAS-5B(V)2 Driver's Vision Enhancers (DVE); JLTV kits; special tools to support the JLTV; JLTV spare parts; M205 gun mounts; basic issue items for CROWS; CROWS DCP retrofit kits; AN/VRC-104 radio kits; 16 port network switch kits; Silent Watch energy storage kits; DVE installation kits; M4A1 detector kits; M1114 turret rings and hatches; Maintenance Support Devices (MSD) with wireless at-platform test sets; Driver's Vision Enhancer (DVE) sensor modules; display control modules; bracket assembly; electronics components assembly; CROWS appended trainers; CROWS diagnostic kits; CROWS maintenance tool sets; M2 Small Arms Tool Kits; Small Arms MK19 Tool Kits; M2 spare parts; MK93 weapon mounts; Toughbook laptops with interactive electronic technical manuals (IETM) and cables; JLTV contractor spare parts support; CROW Systems spare parts support; Maintenance Support Items (MSI) in support of MK19; MK19 Mod III spare parts support; CROWS spare parts; CROWS Basic Issue Items (BII) boresight kit components; Total Package Fielding; Field Service Representative support; U.S. government technical assistance; training; technical publications/manuals; and other related elements of logistics and program support. The estimated cost is $250 million.

This proposed sale will support the foreign policy and national security objectives of the United States by helping to improve the security of a NATO Ally that is a force for political stability and economic progress in Europe.

The proposed sale will improve Slovakia's capability to meet current and future threats by providing the Slovak Land Forces with vehicles to support increased mobility and enhanced protection for ground units. The JLTV procurement would also enable divestiture of Russian-produced equipment, as JLTVs would replace Soviet-era personnel carriers. Procurement of the JLTV would represent a major milestone in Slovakia's goal of developing a capable, twenty-first century military which can meet its national defense needs and effectively contribute to NATO operations. Slovakia will have no difficulty absorbing this equipment into its armed forces.

The proposed sale of this equipment and support will not alter the basic military balance in the region.

The principal contractors will be Oshkosh Corporation and Oshkosh Defense, LLC in Oshkosh, Wisconsin. There are no known offset agreements in connection with this potential sale.

Implementation of this proposed sale will not require the assignment of U.S. Government or contractor representatives to Slovakia.

There will be no adverse impact on U.S. defense readiness as a result of this proposed sale.

Transmittal No. 23-39

Notice of Proposed Issuance of Letter of Offer Pursuant to Section 36(b)(1) of the Arms Export Control Act

Annex

Item No. vii

(vii) Sensitivity of Technology:

1. The Joint Light Tactical Vehicle (JLTV) program is a light tactical vehicle designed to replace the U.S. military's aging High Mobility Multipurpose Wheeled Vehicle fleet. It was designed to close the existing gap in payload, performance, and protection with our adversaries during multi-domain operations. It is an optimal choice for a spectrum of light tactical vehicle missions anywhere in the world. All JLTV mission variants include a strong balance of protection, maneuverability, speed, reliability, and combat support/combat service support capability that far surpasses any similar vehicle in its weight class today.

2. The JLTV is designed to be a system of systems. The Joint Light Tactical Vehicle uses a modular design that allows it to integrate with various materiel and equipment used by U.S. forces in tactical operations.

3. The JLTV has inherent armor built into the base vehicle referred to as A-Kit armor. This A-Kit inherent armor provides both opaque and transparent armor solutions to provide 360-degree azimuthal (i.e., all around) protection from a wide variety of kinetic energy and small arms fire threats. Vehicle survivability enhancements include Automatic Fire Extinguishing Protection and structural rollover protection of 150 percent of the vehicle Ground Vehicle Weight Rating.

4. The AN/VAS-5 Driver's Vision Enhancer is a compact thermal camera providing armored vehicle drivers with day or nighttime visual awareness in clear or reduced vision (fog, smoke, dust) situations. The system provides the driver a 180-degree viewing angle using a high-resolution infrared sensor and image stabilization to reduce the effect of shock and vibration. The viewer and monitor are ruggedized for operation in tactical environments.

5. The Common Remote Operated Weapon Station (CROWS) is an externally mounted weapon mounting and control system that allows the gunner to remain protected inside the vehicle while firing a variety of crew served weapons. The CROWS provides remote day and night sighting and ballistic control capacity, providing first-burst engagement of targets at maximum effective weapon range while on the move.

6. The highest level of classification of defense articles, components, and services included in this potential sale is SECRET.

7. If a technologically advanced adversary were to obtain knowledge of the specific hardware and software elements, the information could be used to develop countermeasures that might reduce weapon system effectiveness or be used in the development of a system with similar or advanced capabilities.

8. A determination has been made that Slovakia can provide the same degree of protection for the sensitive technology being released as the U.S. Government. This sale is necessary in furtherance of the U.S. foreign policy and national security objectives outlined in the Policy Justification.

9. All defense articles and services listed in this transmittal are authorized for release and export to the Government of Slovakia.

[FR Doc. 2024-22240 Filed 9-26-24; 8:45 am]

BILLING CODE 6001-FR-P